DEPARTMENT OF ENERGY

Federal Energy Regulatory Commission

Docket Nos. RP00-468-009, RP01-25-008, and RP03-175-003]

Texas Eastern Transmission, LP; Notice of Supplemental Compliance Filing

April 4, 2003.

Take notice that on April 1, 2003, Texas Eastern Transmission, LP (Texas Eastern) tendered for filing as part of its FERC Gas Tariff, Seventh Revised Volume No. 1, the revised tariff sheets listed in Appendix A, attached to the filing, reflecting an effective date of July 1, 2003.

Texas Eastern states that the purpose of this filing is to supplement its March 25, 2003, tariff filing in compliance with the Commission's February 24, 2003, Order on Rehearing and Compliance Filings in Texas Eastern's Order No. 637 proceeding.

Texas Eastern states that copies of this filing have been mailed to all affected customers and interested state commissions, as well as to all parties on the service lists compiled by the Secretary of the Commission in these proceedings.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: April 14, 2003.

Magalie R. Salas,
Secretary.

[FR Doc. 03-8981 Filed 4-10-03; 8:45 am]

BILLING CODE 6717-01-P